DEPARTMENT OF COMMERCE

Office of the Under-Secretary for Economic Affairs

15 CFR Part 1500

[Docket No.: 210820-0165]

RIN 0605-AA53

Concrete Masonry Products Research, Education, and Promotion Order: Delayed Effective Date

AGENCY: Under-Secretary for Economic Affairs, United States Department of Commerce.

ACTION: Final rule; delay of effective date.

SUMMARY: This document delays the effective date of the final rule published on September 15, 2021, setting forth the proposed Concrete Masonry Products Research, Education, and Promotion Order, as authorized by the Concrete Masonry Products Research, Education, and Promotion Act of 2018, which establishes a Concrete Masonry Products Board (Board) composed of industry members appointed by the Secretary of Commerce (Secretary) to develop and implement programs of research, education, and promotion in the concrete masonry products industry. The effective date is delayed from November 29, 2021, to December 18, 2021. There have been longer-than-expected delays in delivery of timely completed ballots, and the Department wants to ensure it has time to adequately review and process all ballots received. The change in the effective date of the Order does not affect the referendum period which ends on November 15. If the referendum fails, the Department will publish a document in the Federal Register to withdraw the final rule before the effective date.

DATES: Effective November 16, 2021, the effective date of the final rule published September 15, 2021, at 86 FR 51456, is delayed until December 18, 2021.

FOR FURTHER INFORMATION CONTACT: Mr. Michael Thompson, Communications for the Commerce Checkoff Implementation Program, Office of the Under Secretary for Economic Affairs, telephone: (202) 482-0671 or via electronic mail: michael.thompson@trade.gov.

SUPPLEMENTARY INFORMATION: The Department of Commerce published a final rule on September 15, 2021 (86 FR 51456), establishing a Concrete Masonry Products Research, Education, and Promotion Order, as authorized by the Concrete Masonry Products Research, Education, and Promotion Act of 2018. The effective date of the final rule was November 29, 2021. This document delays that date to December 18, 2021, to allow the Department adequate time to review and process all ballots received.

Dated: November 9, 2021.
Kenneth White,
Senior Policy Analyst, Under Secretary for Economic Affairs.

[FR Doc. 2021-24954 Filed 11-15-21; 8:45 am]

BILLING CODE 3510-20-P